DEPARTMENT OF COMMERCE

International Trade Administration

[A-549-820]

Prestressed Concrete Steel Wire Strand From Thailand: Final Results of Antidumping Duty Administrative Review; 2022

AGENCY: Enforcement and Compliance, International Trade Administration, Department of Commerce.

SUMMARY: The U.S. Department of Commerce (Commerce) finds that prestressed concrete steel wire strand (PC strand) from Thailand was not sold in the United States at less than normal value (NV) during the period of review (POR) January 1, 2022, through December 31, 2022.

DATES: Applicable May 21, 2024.

FOR FURTHER INFORMATION CONTACT: Samantha Kinney, AD/CVD Operations, Office II, Enforcement and Compliance, International Trade Administration, U.S. Department of Commerce, 1401 Constitution Avenue NW, Washington, DC 20230; telephone: (202) 482-2285.

SUPPLEMENTARY INFORMATION:

Background

On February 2, 2023, Commerce published in the Federal Register the Preliminary Results of the 2022 administrative review ¹ of the antidumping duty order on PC strand from Thailand.² The review covers the sole mandatory respondent, The Siam Industrial Wire Co., Ltd. (SIW). We invited interested parties to comment on the Preliminary Results.³ On April 3, 2024, the petitioners submitted a case brief.⁴ On April 8, 2024, SIW submitted a rebuttal brief.⁵ Neither party argued for any changes from the Preliminary Results. Because Commerce received no comments requiring changes to the Preliminary Results, we have not modified our analysis and no decision memorandum accompanies this Federal Register notice. Accordingly, the final results are unchanged from the Preliminary Results, and we are adopting the Preliminary Results as the final results of this review. Commerce conducted this review in accordance with section 751(a)(1)(B) of the Tariff Act of 1930, as amended (the Act).

¹ See Prestressed Concrete Steel Wire Strand from Thailand: Preliminary Results of Antidumping Duty Administrative Review; 2022; 89 FR 7370 (February 2, 2023) (Preliminary Results), and accompanying Preliminary Decision Memorandum.

² See Notice of Amended Final Determination of Sales at Less Than Fair Value and Antidumping Duty Order: Prestressed Concrete Steel Wire Strand from Thailand, 69 FR 4111 (January 28, 2004) (Order).

³ See Preliminary Results.

⁴ See Petitioners' Letter, “Petitioners' Case Brief,” dated April 3, 2024 (Petitioners' Case Brief). The Petitioners in this proceeding are Insteel Wire Products Company, Sumiden Wire Products Corporation, and Wire Mesh Corp. (collectively, the petitioners).

⁵ See SIW's Letter, “Rebuttal Brief of The Siam Industrial Wire Co., Ltd.,” dated April 8, 2024.

Scope of the Order

The merchandise covered by this Order is prestressed concrete steel wire strand produced from wire of non-stainless, non-galvanized steel, which is suitable for use in prestressed concrete (both pre-tensioned and post-tensioned) applications. The product definition encompasses covered and uncovered strand and all types, grades, and diameters of PC strand. The merchandise subject to the Order is currently classifiable under subheadings 7312.10.3010 and 7312.10.3012 of the Harmonized Tariff Schedule of the United States (HTSUS). Although the HTSUS subheadings are provided for convenience and customs purposes, the written description of the merchandise subject to the scope is dispositive.

Final Results of Review

Although the petitioners and SIW submitted comments, neither party requested changes to the Preliminary Results in this review. While the petitioners requested corroboration of the reporting of SIW's suppliers of wire rod in future reviews,⁶ the petitioners rescinded their request for review, and there are no other outstanding review requests for the upcoming review period. Additionally, at this stage, the petitioners did not request further corroboration of SIW's reporting of wire rod inputs for this POR.⁷ Therefore, their arguments, raised for this administrative review, are moot. Any additional corroboration of reporting by SIW's input suppliers, however, will be considered in the context of a future review.

⁶ See Petitioners' Case Brief at 2.

⁷ Id.

As a result of this review, we determine the following estimated weighted-average dumping margin exists for the POR:

Exporter or producer | Weighted- average dumping margin (percent)
The Siam Industrial Wire Co., Ltd | 0.00

Disclosure

Normally, Commerce discloses to interested parties the calculations performed in final results within five days of any public announcement or, if there is no public announcement, within five days of the date of publication of the notice of final results in the Federal Register, in accordance with 19 CFR 351.224(b). However, because we have made no changes from the Preliminary Results, there are no new calculations to disclose in accordance with 19 CFR 351.224(b) for these final results.

Assessment Rates

Pursuant to section 751(a)(2)(C) of the Act, and 19 CFR 351.212(b)(1), Commerce has determined, and U.S. Customs and Border Protection (CBP) shall assess, antidumping duties on all appropriate entries of subject merchandise in accordance with the final results of this review.

Where the respondent's weighted-average dumping margin is either zero or de minimis (i.e., less than 0.5 percent),⁸ we will instruct CBP to liquidate the appropriate entries without regard to antidumping duties. Accordingly, because SIW's weighted-average dumping margin is zero percent, we will instruct CBP to liquidate the appropriate entries without regard to antidumping duties.

⁸ See 19 CFR 351.106(c)(1).

For entries of subject merchandise during the POR produced by the respondent for which it did not know that the merchandise was destined for the United States, we will instruct CBP to liquidate unreviewed entries at the all-others rate (i.e., 12.91 percent) determined in the original less-than-fair-value (LTFV) investigation ⁹ if there is no rate for the intermediate company(ies) involved in the transaction.¹⁰

⁹ See Order, 69 FR at 4111.

¹⁰ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date in the Federal Register of the final results of this administrative review, as provided by section 751(a)(2)(C) of the Act: (1) the cash deposit rate for SIW will be equal to the weighted-average dumping margin established in the final results of this administrative review (i.e., 0.00 percent); (2) for merchandise exported by a producer or exporter not covered in this review but covered in a prior segment of the proceeding, the cash deposit rate will continue to be the company-specific cash deposit rate published for the most recently completed segment of this proceeding in which the producer or exporter participated; (3) if the exporter is not a firm covered in this review, or a previous segment, but the producer is, the cash deposit rate will be the rate established in the completed segment for the most recent period for the producer of the merchandise; and (4) the cash deposit rate for all other producers or exporters will continue to be 12.91 percent ad valorem, the all-others rate established in the LTFV investigation.¹¹ These deposit requirements, when imposed, shall remain in effect until further notice.

¹¹ See Order, 69 FR at 4111.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

Notification to Interested Parties

We are issuing and publishing this notice in accordance with sections 751(a)(1) and 777(i)(1) of the Act, and 19 CFR 351.221(b)(5).

Dated: May 15, 2024.
Ryan Majerus,
Deputy Assistant Secretary for Policy and Negotiations, performing the non-exclusive functions and duties of the Assistant Secretary for Enforcement and Compliance.

[FR Doc. 2024-11125 Filed 5-20-24; 8:45 am]

BILLING CODE 3510-DS-P